DEPARTMENT OF TRANSPORTATION

Federal Aviation Administration

14 CFR Part 71

[Docket No. FAA-2010-1241; Airspace Docket No. 10-AWP-22]

Amendment of Class D and E Airspace; Palmdale, CA

AGENCY: Federal Aviation Administration (FAA), DOT.

ACTION: Final rule.

SUMMARY: This action amends Class D Airspace and Class E Airspace at Palmdale, CA, to accommodate aircraft using Instrument Landing System (ILS) Localizer (LOC) standard instrument approach procedures at Palmdale Regional Airport/USAF Plant 42. This improves the safety and management of Instrument Flight Rules (IFR) operations at the airport. This action also corrects the name of the airport.

DATES: Effective date, 0901 UTC, August 25, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On March 21, 2011, the FAA published in the Federal Register a notice of proposed rulemaking to amend controlled airspace at Palmdale, CA (76 FR 15231). Interested parties were invited to participate in this rulemaking effort by submitting written comments on the proposal to the FAA. No comments were received.

Class D and Class E Airspace designations are published in paragraph 5000, 6004 and 6005, respectively, of FAA Order 7400.9U dated August 18, 2010, and effective September 15, 2010, which is incorporated by reference in 14 CFR part 71.1. The Class D Airspace and the Class E Airspace designations listed in this document will be published subsequently in that Order. Except for editorial changes, this rule is the same as published in the notice of proposed rulemaking March 21, 2011.

The Rule

This action amends Title 14 Code of Federal Regulations (14 CFR) part 71 by modifying Class D Airspace, Class E Airspace designated as an extension to a Class D surface area, and Class E Airspace extending upward from 700 feet above the surface, at Palmdale Regional Airport/USAF Plant 42, Palmdale, CA, to accommodate IFR aircraft using the ILS LOC standard instrument approach procedures at the airport. This action is necessary for the safety and management of IFR operations. This action also corrects the airport name from Palmdale Production Flight/Test Installation Air Force Plant Number 42 Airport, to Palmdale Regional Airport/USAF Plant 42.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, section 106 discusses the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it establishes additional controlled airspace at Palmdale Regional Airport/USAF Plant 42, Palmdale, CA.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9U, Airspace Designations and Reporting Points, dated A ugust 18, 2010, and effective September 15, 2010 is amended as follows:

Paragraph 5000 Class D Airspace.

* * * * *

AWP CA D Palmdale, CA [Amended]

Palmdale Regional Airport/USAF Plant 42

(Lat. 34°37′46″ N., long. 118°05′04″ W.)

That airspace extending upward from the surface to and including 5,000 feet MSL within a 4.3-mile radius of Palmdale Regional Airport/USAF Plant 42. This Class D Airspace area is effective during the specific dates and times established in advance by a Notice to Airmen. The effective date and time will thereafter be continuously published in the Airport/Facility Directory.

Paragraph 6004 Class E airspace designated as an extension to a Class D surface area.

* * * * *

AWP CA E4 Palmdale, CA [Amended]

Palmdale Regional Airport/USAF Plant 42

(Lat. 34°37′46″ N., long. 118°05′04″ W.)

Palmdale VORTAC

(Lat. 34°37′53″ N., long. 118°03′50″ W.)

That airspace extending upward from the surface within 2.6 miles each side of the ILS localizer east course, extending from the 4.3-mile radius of Palmdale Regional Airport/USAF Plant 42 to 6.5 miles east of the LOM, and within 1.8 miles south of and parallel to the Palmdale VORTAC 099° radial extending from the 4.3-mile radius of the airport to 7 miles east of the VORTAC. This Class E Airspace area is effective during the specific dates and times established in advance by a Notice to Airmen. The effective date and time will thereafter be continuously published in the Airport/Facility Directory.

Paragraph 6005 Class E airspace areas extending upward from 700 feet or more above the surface of the earth.

* * * * *

AWP CA E5 Palmdale, CA [Modified]

Palmdale Regional Airport/USAF Plant 42

(Lat. 34°37′46″ N., long. 118°05′04″ W.)

Palmdale VORTAC

(Lat. 34°37′53″ N., long. 118°03′50″ W.)

Lancaster, Gen. William J. Fox Airfield, CA

(Lat. 34°44′ 28″ N., long. 118°13′ 07″ W.)

That airspace extending upward from 700 feet above the surface within 1.8 miles south and 6.1 miles north of the Palmdale VORTAC 298° radial extending from the VORTAC to 15.6 miles northwest, and within 1.8 miles each side of the 310° bearing from the Gen. William J. Fox Airfield extending from a 4-mile radius of Gen. William J. Fox Airfield to 9.1 miles northwest of the Airfield, and within 5.2 miles south and 10.4 miles north of the Palmdale VORTAC 298° and 118° radials extending from 9.6 miles northwest to 11.3 miles southeast of the VORTAC, and within 8 miles south and 4 miles north of the 086° bearing from Palmdale Regional Airport/USAF Plant 42 extending 21.7 miles east of Palmdale Regional Airport/USAF Plant 42. That airspace extending upward from 1,200 feet above the surface bounded by a line beginning at lat. 35°36′30″ N., long. 118°45′03″ W.; to lat. 35°44′00″ N., long. 117°53′03″ W.; to lat. 36°07′00″ N., long. 117°53′03″ W.; to lat. 36°07′00″ N., long. 117°35′03″ W.; to lat. 35°47′46″ N., long. 116°55′23″ W.; to lat. 35°21′36″ N., long. 116°55′23″ W.; to lat. 35°34′30″ N., long. 116°29′43″ W.; to lat. 35°34′30″ N., long. 116°23′33″ W.; to lat. 35°28′35″ N., long. 116°18′48″ W.; to lat. 35°21′30″ N., long. 116°13′03″ W.; to lat. 34°43′00″ N., long. 116°13′03″ W.; thence west along lat. 34°43′00″ N., to the southeast boundary of V-21, thence along the southeast boundary of V-21 to lat. 34°30′00″ N., thence west along lat. 34°30′00″ N., to long. 118°20′03″ W.; thence north along long. 118°20′03″ W., to the south boundary of V-137, thence west along the south boundary of V-137 to long. 118°45′03″ W.; thence to the point of beginning.

Issued in Seattle, Washington, on May 17, 2011.
Christine Mellon,
Acting Manager, Operations Support Group, Western Service Center.

[FR Doc. 2011-12991 Filed 5-25-11; 8:45 am]

BILLING CODE 4910-13-P